DEPARTMENT OF THE TREASURY

Office of Foreign Assets Control

Sanctions Action Pursuant to an Executive Order Issued on September 23, 2001, Titled “Blocking Property and Prohibiting Transactions With Persons Who Commit, Threaten To Commit, or Support Terrorism”

AGENCY: Office of Foreign Assets Control, Treasury.

ACTION: Notice.

SUMMARY: The Department of the Treasury's Office of Foreign Assets Control (OFAC) is publishing the name of one individual and one entity that have been placed on OFAC's Specially Designated Nationals and Blocked Persons (SDN) List whose property and interests in property are blocked pursuant to an executive order issued on September 23, 2001, titled “Blocking Property and Prohibiting Transactions With Persons Who Commit, Threaten To Commit, or Support Terrorism.”

DATES: OFAC's actions described in this notice were effective on June 15, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On June 15, 2017, OFAC blocked the property and interests in property of the following one individual and one entity pursuant to E.O. 13224 of September 23, 2001, “Blocking Property and Prohibiting Transactions With Persons Who Commit, Threaten To Commit, or Support Terrorism” (E.O. 13224):

Individual

1. AL-KUBAYSI, 'Umar (a.k.a. AL-KUBAYSI ARHAYM, Umar Mahmud; a.k.a. AL-KUBAYSI, Umar Mahmud Rahim; a.k.a. AL-QUBAYSI, Umar Mahmud Rahim; a.k.a. ARHAYM, 'Umar Mahmud; a.k.a. RAHIM, 'Umar Mahmud), al-Qaim, al-Anbar Province, Iraq; DOB 01 Jan 1967; nationality Iraq; Gender Male (individual) [SDGT] (Linked To: ISLAMIC STATE OF IRAQ AND THE LEVANT). Designated pursuant to section 1(c) of E.O. 13224 for acting for or on behalf of the Islamic State of Iraq and Levant (ISIL), an entity designated pursuant to E.O. 13224.

Entity

1. AL-KAWTHAR MONEY EXCHANGE (a.k.a. AL-KAWTHAR HAWALA), Al-Qa'im, Al Anbar Province, Iraq [SDGT] (Linked To: AL-KUBAYSI, 'Umar). Designated pursuant to 1(c) of E.O. 13224 for being owned or controlled by `Umar al-Kubaysi, an individual designated pursuant to E.O. 13224.

Dated: June 15, 2017.
Andrea Gacki,
Acting Director, Office of Foreign Assets Control.

[FR Doc. 2017-12807 Filed 6-19-17; 8:45 am]

BILLING CODE 4810-AL-P